DEPARTMENT OF HOMELAND SECURITY

U.S. Customs and Border Protection

DEPARTMENT OF THE TREASURY

19 CFR Part 10

Articles Conditionally Free, Subject to a Reduced Rate, etc.

CFR Correction

In Title 19 of the Code of Federal Regulations, parts 0 to 140, revised as of April 1, 2015, remove the term “Customs” and add in its place the term “CBP” in the following places:

1. On page 96, in § 10.1, in the introductory text of paragraph (h)(1), and

2. On page 113, in § 10.31, in paragraph (f), in two places.

[FR Doc. 2016-07554 Filed 3-31-16; 8:45 am]

BILLING CODE 1505-01-D